DEPARTMENT OF HOMELAND SECURITY

Coast Guard

33 CFR Part 117

[CGD05-07-083]

Drawbridge Operation Regulations; Atlantic Intracoastal Waterway (AICW), NC

AGENCY: Coast Guard, DHS.

ACTION: Notice of temporary deviation from regulations.

SUMMARY: The Commander, Fifth Coast Guard District, has approved a temporary deviation from the regulations governing the operation of the Onslow Beach Swing Bridge, at AICW mile 240.7, in Camp Lejeune, NC. This deviation allows the drawbridge to remain closed-to-navigation from 8 a.m. on September 11, 2007 until and including 8 a.m. on September 13, 2007, and from 8 a.m. on September 25, 2007 until and including 8 a.m. on September 27, 2007, to facilitate mechanical repairs.

DATES: This deviation is effective from 8 a.m. on September 11, 2007 to 8 a.m. on September 27, 2007.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Bill H. Brazier, Bridge Management Specialist, Fifth Coast Guard District, at (757) 398-6422.

SUPPLEMENTARY INFORMATION: The Onslow Beach Swing Bridge has a vertical clearance in the closed position to vessels of 12 feet, above mean high water.

The U.S. Navy (the bridge owner) has requested a temporary deviation from the current operating regulations set out in 33 CFR 117.821(a)(2) to close the drawbridge to navigation to facilitate hydraulic repairs on the northeast and southeast ends and the power components of bridge.

To facilitate the mechanical repairs, the Onslow Beach Swing Bridge will be maintained in the closed-to-navigation position from 8 a.m. on Tuesday, September 11, 2007 until and including 8 a.m. on Thursday, September 13, 2007, and from 8 a.m. on Tuesday, September 25, 2007 until and including 8 a.m. on Thursday, September 27, 2007.

The Coast Guard has informed the known commercial users of the waterway of the change to the regulations concerning this so that these vessels can arrange their transits to minimize any impact caused by the temporary deviation.

In accordance with 33 CFR 117.35(e), the drawbridge must return to its regular operating schedule immediately at the end of the designated time period.

This deviation from the operating regulations is authorized under 33 CFR 117.35.

Dated: August 16, 2007.
Waverly W. Gregory, Jr.,
Chief, Bridge Administration Branch, Fifth Coast Guard District.

[FR Doc. E7-16727 Filed 8-23-07; 8:45 am]

BILLING CODE 4910-15-P